DEPARTMENT OF HOMELAND SECURITY

Federal Emergency Management Agency

Agency Information Collection Activities: Proposed Collection; Comment Request

AGENCY: Federal Emergency Management Agency, DHS.

ACTION: Notice; 60-day notice and request for comments; this is an extension of a currently approved collection, OMB No. 1660-0104.

SUMMARY: The Federal Emergency Management Agency (FEMA), as part of its continuing effort to reduce paperwork and respondent burden, invites the general public and other Federal agencies to take this opportunity to comment on this information collection. In accordance with the Paperwork Reduction Act of 1995, this notice seeks comments concerning Severe Repetitive Loss Program (SRL) Appeals process as part of the administration of the SRL program.

SUPPLEMENTARY INFORMATION: To implement the Flood Insurance Act of 1968, 42 U.S.C. 4102a, as amended, FEMA has published an interim rule at 44 CFR 79.7(d) in the Federal Register on October 31, 2007 that outlines an appeals process by which any owner of a severe repetitive loss property may appeal the decision of FEMA to increase the chargeable insurance premium rate on property. The legislation that created the SRL program provides that any owner of a severe repetitive loss property who refuses an offer of mitigation may appeal the decision of FEMA to increase the chargeable insurance premium rate on that property. The process requires the owner to submit a written appeal, including any supporting documentation for their appeal to FEMA within 90 days of the notice of the insurance rate increase. This extension of a currently approved collection of information is necessary to ensure that the property owner is given the opportunity to provide additional documentation that supports one of the six allowable bases for appeal, outlined in the authorizing legislation, and implemented at 44 CFR 79.7(d).

Collection of Information

Title: Severe Repetitive Loss (SRL) Appeals Process.

Type of Information Collection: Extension of a currently approved collection.

OMB Number: 1660-0104.

Form Numbers: None.

Abstract: The SRL program provides property owners with the ability to appeal an increase in their flood insurance premium rate if they refuse an offer of mitigation under this program. The property owner must submit information to FEMA to support their appeal.

Affected Public: Federal Government, and individuals or households.

Estimated Total Annual Burden Hours: 100.

Annual Burden Hours
Project/activity | Number of respondents | Frequency of responses | Number of responses | Hours per burden response | Total annual burden hours
| (A) | (B) | (C) | (A×B) | (A×B×C)
Appeal written request and supporting documentation | 10 | 1 | 10 | 10 | 100
Total | 10 |  | 10 | 10 | 100

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before April 29, 2008.

ADDRESSES: Interested persons should submit written comments to Director, Records Management and Privacy, Office of Management Directorate, Federal Emergency Management Agency, 500 C Street, SW., Room 609, Washington, DC 20472.

FOR FURTHER INFORMATION CONTACT: Cecelia Rosenberg, Branch Chief, Mitigation Directorate, (202) 646-3321 for additional information. You may contact the Records Management Branch for copies of the proposed collection of information at facsimile number (202) 646-3347 or e-mail address: FEMA-Information-Collections@dhs.gov.

Dated: February 19, 2008.
John A. Sharetts-Sullivan,
Director, Records Management and Privacy, Office of Management Directorate, Federal Emergency Management Agency, Department of Homeland Security.

[FR Doc. E8-3904 Filed 2-28-08; 8:45 am]

BILLING CODE 9110-11-P